DEPARTMENT OF TRANSPORTATION

Federal Aviation Administration

14 CFR Part 71

[Docket No. FAA-2005-21257; Airspace Docket No. 05-AGL-05]

Modification of Class E Airspace; Akron, OH

Correction

In rule document 05-21586 beginning on page 62235 in the issue of Monday, October 31, 2005, make the following correction:

§71.1 [Corrected]

On page 62235, in the third column, in §71.1, under the heading AGL OH E5 Akron, OH [Revised], in the last line, “Lat. 40° 50′ 58″ N.” should read “Lat. 40° 54′ 58″ N.”.

[FR Doc. C5-21586 Filed 11-3-05; 8:45 am]

BILLING CODE 1505-01-D